DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: National Survey of Children's Health.

OMB Control Number: 0607-0990.

Form Number(s):

English survey forms include:

NSCH-S1 (English Screener),

NSCH-T1 (English Topical for 0- to 5-year-old children),

NSCH-T2 (English Topical for 6- to 11-year-old children),

NSCH-T3 (English Topical for 12- to 17-year-old children).

Spanish survey forms include:

NSCH-S-S1 (Spanish Screener),

NSCH-S-T1 (Spanish Topical for 0- to 5-year-old children),

NSCH-S-T2 (Spanish Topical for 6- to 11-year-old children), and

NSCH-S-T3 (Spanish Topical for 12- to 17-year-old children).

Type of Request: Regular submission.

Number of Respondents: 58,345 for the Screener and 23,460 for the Topical.

Average Hours per Response: 0.083 for the screener and 0.5 for the topical.

Burden Hours: 16,573.

Needs and Uses: The National Survey of Children's Health (NSCH) enables the Maternal and Child Health Bureau (MCHB) of the Health Resources and Services Administration (HRSA) of the U.S. Department of Health and Human Services (HHS) to produce national and state-based estimates on the health and well-being of children, their families, and their communities as well as estimates of the prevalence and impact of children with special health care needs.

Data will be collected using one of two modes. The first mode is a web instrument (Centurion) survey that contains the screener and topical instruments. The web instrument first will take the respondent through the screener questions. If the household screens into the study, the respondent will be taken directly into one of the three age-based topical sets of questions. The second mode is a mailout/mailback of a self-administered paper-and-pencil interviewing (PAPI) screener instrument followed by a separate mailout/mailback of a PAPI age-based topical instrument.

The National Survey of Children's Health (NSCH) is a large-scale (sample size is 156,054 addresses) national survey. The survey will consist of one experiment to test the efficacy of an infographic in the initial package as well as two key, non-experimental design elements. It is anticipated that the infographic will provide respondents with a visually pleasant overview of the survey, including survey design, key estimates from past iterations, and information on how the data can benefit their community, will encourage response. Higher response can reduce follow-up costs and nonresponse bias. The first additional non-experimental design element is a $2 screener cash incentive mailed to 90% of sampled addresses; the remaining 10% (the control) will receive no incentive to monitor the effectiveness of the cash incentive. This incentive is designed to increase response and reduce nonresponse bias. The incentive amount was chosen following an incentive test in the 2016 NSCH. From this test, we concluded that the $2 incentive significantly increased response over no incentive, particularly among low-response groups, and was more cost effective than the $5 incentive. The second additional non-experimental design element is a modification to data collection procedures based on the block group-level paper-only response probability to identify households (30% of the sample) that would be more likely to respond by paper and send them a paper questionnaire from the initial mailing.

Affected Public: Parents, researchers, policymakers, and family advocates.

Frequency: This 2017 collection is the second administration of the NSCH. It is expected that this will become an annual or biennial survey, with a new sample drawn for each administration.

Respondent's Obligation: Voluntary.

Legal Authority: Census Authority: 13 U.S.C. Section 8(b).

HRSA MCHB Authority: Section 501(a)(2) of the Social Security Act (42 U.S.C. 701).

USDA Authority: The Healthy, Hunger-Free Kids Act of 2010, Public Law 111-296. In particular, 42 U.S.C. 1769d(a) authorizes USDA to conduct research on the causes and consequences of childhood hunger included in 1769d(a)(4)(B), the geographic dispersion of childhood hunger and food insecurity.

CDC/NCBDDD Authority: Public Health Service Act, Section 301, 42 U.S.C. 241.

EPA Authority: FIFRA: Section 20(a); Toxic Substances Control Act: Section 10; 15 U.S.C. 2609.

Confidentiality: The U.S. Census Bureau is required by law to protect your information. The Census Bureau is not permitted to publicly release your responses in a way that could identify you or your household. Federal law protects your privacy and keeps your answers confidential (Title 13, United States Code, Section 9). Per the Federal Cybersecurity Enhancement Act of 2015, your data are protected from cybersecurity risks through screening of the systems that transmit your data.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
PRA Departmental Lead, Office of the Chief Information Officer.

[FR Doc. 2017-07159 Filed 4-10-17; 8:45 am]

BILLING CODE 3510-07-P